DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for public transportation projects in the following areas: Houston, Texas, Portland, Oregon, and Orlando, Florida. The purpose of this notice is to announce publicly the environmental decisions by FTA on the subject projects and to activate the limitation on any claims that may challenge these final environmental actions.

DATES: By this notice, FTA is advising the public of final agency actions subject to Title 23, United States Code (U.S.C.), section 139(l). A claim seeking judicial review of the FTA actions announced herein for the listed public transportation projects will be barred unless the claim is filed on or before January 26, 2009.

FOR FURTHER INFORMATION CONTACT: Elizabeth Zelasko, Environmental Protection Specialist, Office of Planning and Environment, 202-366-0244, or Christopher Van Wyk, Attorney-Advisor, Office of Chief Counsel, 202-366-1733. FTA is located at 1200 New Jersey Avenue, SE., Washington, DC 20590. Office hours are from 9 a.m. to 5:30 p.m., e.t., Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA), and in other documents in the FTA administrative record for the project. The final agency environmental decision documents—Records of Decision (ROD) or Findings of No Significant Impact (FONSI)—for the listed projects are available online at http://www.fta.dot.gov/planning/environment/planning_environment_documents.html or may be obtained by contacting the FTA Regional Office for the metropolitan area where the project is located. Contact information for the FTA Regional Offices may be found at http://www.fta.dot.gov.

This notice applies to all FTA decisions on the listed projects as of the issuance date of this notice and all laws under which such actions were taken, including, but not limited to, the National Environmental Policy Act (NEPA) [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register (e.g., this notice does not extend the limitation on claims announced in the Federal Register on November 2, 2007 for the original FONSI issued for the Central Florida Commuter Rail Transit Project).

The projects and actions that are the subject of this notice are:

1. Project name and location: North Corridor Fixed Guideway Transit Project, Houston, Texas. Project sponsor: Metropolitan Transit Authority of Harris County Texas (METRO). Project description: The FTA and METRO have completed a Supplemental Final Environmental Impact Statement (SFEIS) for the North Corridor Fixed Guideway Transit Project (North Corridor Project). The North Corridor Project will extend the existing METRORail Red line from the University of Houston-Downtown Station approximately 5.3 miles north to Northline Mall. The project includes construction of eight passenger stations and five electrical substations; improvements to the existing light rail transit storage and maintenance facility; and the purchase of 12 additional light rail transit vehicles. Final Agency Actions: ROD signed on July 1, 2008. Section 106 Memorandum of Agreement signed on June 4, 2008; Project-level Air Conformity determination; and Section 4(f) finding. Supporting documentation: North Corridor Fixed Guideway Supplemental Final Environmental Impact Statement (SFEIS) signed on April 18, 2008.

2. Project name and location: Southeast Corridor Fixed Guideway Transit Project, Houston, Texas. Project sponsor: METRO. Project description: The FTA and METRO have completed a SFEIS for the Southeast Corridor Fixed Guideway Transit Project (Southeast Corridor Project). The Southeast Corridor Project will start in downtown Houston; connect to the universities area including Texas Southern University, University of Houston, and the Palm Center; and end at a terminus on Griggs Road and Beekman Road. The light rail will operate in portions of the alignment on both restricted street lanes and an exclusive bi-directional trackway. For the Southeast Corridor Project, METRO will also construct a vehicle storage facility, ten passenger stations, and a traction power electrical system. Final agency actions: ROD signed on July 16, 2008; Section 4(f) de minimis impact finding; Section 106 Memorandum of Agreement signed on June 4, 2008; Project-level Air Conformity determination. Supporting documentation: Southeast Corridor Fixed Guideway Supplemental Final Environmental Impact Statement (SFEIS) signed on April 25, 2008.

3. Project name and location: Portland Streetcar Loop Project, Portland Oregon. Project sponsor: Tri-County Metropolitan Transportation District (TriMet). Project description: The project involves the construction of 3.3 miles of double track rail lines in existing streets and public rights-of-way from NW 10th Avenue and Lovejoy Street in the Pearl District of northwest Portland to the Oregon Museum of Science and Industry in southeast Portland. TriMet plans to construct 18 new station pairs with designs similar to those along the existing Portland Streetcar alignment. The project also includes the purchase of 10 streetcars, expansion of the existing streetcar operations and maintenance facility, roadway improvements, and elimination of some bus line service. Final agency actions: FONSI signed on July 2, 2008; Section 106 Finding of No Adverse Effect; Project-level Air Conformity determination; Section 4(f) de minimis impact finding. Supporting documentation: Environmental Assessment on the Portland Streetcar Loop Project issued on February 8, 2008.

4. Project name and location: Central Florida Commuter Rail Transit Project, Orlando, Florida. Project sponsor: Florida Department of Transportation (FDOT). Project description: FDOT is proposing to operate a commuter rail project on approximately 61 miles of existing freight rail tracks that traverse Orange, Seminole, Volusia, and Osceola counties in the greater metropolitan area of Orlando, Florida. The project will involve the construction of 17 stations and a new vehicle storage and maintenance facility. On April 27, 2007, FTA issued a FONSI on the Central Florida Commuter Rail Transit (CFCRT) North/South Corridor project stating that the project would not have a significant impact on the environment. Since issuing the FONSI, FDOT made several changes to stations on the CFCRT project and these changes were reviewed in a Supplemental EA approved on May 8, 2008. The final agency actions announced in this notice only concern these project changes which are of limited scope and do not warrant reconsideration of the entire project. Final agency actions: FONSI signed on July 22, 2008; Section 106 Finding of No Effect on Historic Properties dated June 20, 2008; Section 4(f) finding. Supporting documentation: Supplemental Environmental Assessment on the Central Florida Commuter Rail Transit North/South Corridor Project approved on May 8, 2008.

Issued on: July 24, 2008.
Susan Borinsky,
Associate Administrator for Planning and Environment, Washington, DC.

[FR Doc. E8-17482 Filed 7-29-08; 8:45 am]

BILLING CODE 4910-57-P